DEPARTMENT OF COMMERCE

Office of the Under Secretary for Economic Affairs

Request for Comments on the Execution of the FY 22/26 Learning Agenda

AGENCY: Office of the Under Secretary for Economic Affairs, U.S. Department of Commerce.

ACTION: Request for information.

SUMMARY: In accordance with the Foundations for Evidence-Based Policymaking Act of 2018 (the Evidence Act), Public Law 115-435,¹ the Department of Commerce has developed a draft Learning Agenda for FY 2022 to FY 2026. The Learning Agenda lists significant priority evidence/evaluation questions that will be researched over the next four years to help achieve the Department's Strategic Objectives. The final plan will be published in February 2022 and will be reviewed annually for possible updates and improvements.

¹ 5 U.S.C. 312.

Research questions in the plan cover a broad range of topics reflecting the wide-ranging authorities and programs across the Department. One common theme across many bureaus, and consistent with the Administration's focus on equitable economic growth, is the extent to which programs are reaching traditionally underserved communities and populations and meeting their needs. These questions are listed in the Supplementary Information.

General comments are invited but input is particularly requested on:

• Strategies to best engage with underserved communities and populations on research methodology

• Data sets maintained by states, localities, regional organizations, or non-profits that could support the research

• Recent significant research most relevant to the Learning Agenda questions

The information provided will be used to develop and refine the approach used to conduct research. This includes identifying organizations and individuals who will be included in focus groups.

DATES: Comments must be received by 5:00 p.m. Eastern time on January 31, 2022. Written comments in response to the RFI should be submitted according to the instructions in the Addresses sections below. Submissions received after that date may not be considered.

ADDRESSES: Comments must be submitted via email to EvaluationOfficer@doc.gov. Attachments to the email will be accepted only in ADOBE® portable document format or MICROSOFT WORD® format. All submissions, including attachments and other supporting materials, will become part of the public record and subject to public disclosure. The Department of Commerce reserves the right to publish relevant comments publicly, unedited and in their entirety. Personal information, such as account numbers or Social Security numbers, or names of other individuals, should not be included. Do not submit confidential business information, or otherwise sensitive or protected information.

FOR FURTHER INFORMATION CONTACT: For questions regarding this notice please call 202-604-5634 or email EvaluationOfficer@doc.gov.

SUPPLEMENTARY INFORMATION: The following are Learning Agenda topics and questions that would particularly benefit from engagement with underserved communities and populations on the approach to the research and available data and expertise.

Equitable Sustained Prosperity

To what extent do minority business enterprises (MBEs) participate, produce, innovate, and compete in manufacturing? What Department actions would be most effective in increasing MBE participation in manufacturing?

What types of Economic Development Administration funded activities (including those funded by CARES and the American Rescue Plan) are associated with the strongest long-term economic advances, particularly for underserved communities and populations?

What is the best approach to increasing capital available to minority businesses?

What are the most significant barriers to providing business assistance to underserved communities and populations? How can they be removed?

Data Availability and Usability

What datasets are available/needed to track the impact of Department programs on historically underserved communities/populations?

What refinements and new statistics can best support better and more equitable management of the economy?

What internal processes and publicly facing Commerce tools will democratize data access and improve awareness of the Commerce data inventory?

Weather and Climate Information

How can NOAA provide more effective and equitable climate mitigation and adaptation science breakthroughs?

How can weather forecasts be communicated effectively to vulnerable populations?

What additional models and tools do communities need to better prepare for coastal inundation at seasonal, annual, and multi-year timescales?

Request for Information: Respondents may organize their submissions in response to this RFI in any manner. Responses may include estimates, which should be identified as such. All responses that comply with the requirements listed in the DATES and ADDRESSES sections of this RFI will be considered.

Christine Heflin,
Evaluation Officer, Department of Commerce, Office of the Under Secretary for Economic Affairs.

[FR Doc. 2021-26304 Filed 12-2-21; 8:45 am]

BILLING CODE 3510-MN-P